DEPARTMENT OF AGRICULTURE

Forest Service

Idaho Roadless Area Boundary Modification; Caribou-Targhee National Forest

AGENCY: Forest Service, USDA.

ACTION: Notice of final Idaho Roadless Area boundary modification.

SUMMARY: The Forest Service, U.S. Department of Agriculture (USDA), is modifying the boundary of the West Mink Idaho Roadless Area on the Caribou-Targhee National Forest to relocate and expand the Gibson Jack Trailhead and also to incorporate the area bordering another trail that was previously excluded from the Roadless Area. These modifications are pursuant to 36 CFR 294.27(b).

DATES: These modifications are effective October 2, 2015.

FOR FURTHER INFORMATION CONTACT: Idaho Roadless Coordinator Anne Davy at (406) 329-3314. Additional information concerning this modification, including the corrected map, may be obtained on the Internet at http://www.fs.usda.gov/detail/roadless/idahoroadlessrule/?cid=stelprdb5382399. Individuals who use telecommunication devices for the deaf (TDD) may call the Federal Information Relay Service (FIRS) at 1-800-877-8339 between 8:00 a.m. and 8:00 p.m., Eastern Standard Time, Monday through Friday.

SUPPLEMENTARY INFORMATION: The following modification changes the boundary of the West Mink Idaho Roadless area. Approximately 11.4 acres are removed from the West Mink Roadless Area allow for the relocation and expansion of the Gibson Jack Trailhead. This modification also adds 18 acres to the Roadless Area by incorporating an area (or “cherry stem”) that was originally carved out of the Roadless Area. This 18 acre area follows a closed Forest Service road that has since been converted to a motorized trail. These boundary modifications result in a net increase of 6.6 acres.

The Idaho Roadless Rule authorizes modifications to the maps of lands identified in 36 CFR§ 294.22(c), including but not limited to, additions, removals, or modifications of the designations and management classifications listed in 36 CFR§ 294.29 based on changed circumstances or public need. The Chief of the Forest Service may issue modifications after a 45-day public notice and opportunity to comment.

The Forest Service published notice of the proposed boundary modification in the Federal Register on July 8, 2015 for a 45-day public comment period. The Forest Service presented the modifications to the State of Idaho's Roadless Rule Advisory Commission on June 28, 2012 and the Governor of Idaho recommended the Forest Service proceed with the modification on August 29, 2013.

Consideration of Comments

The Forest Service received one comment on the proposed boundary modification. The Idaho Department of Parks and Recreation supported the proposed modification because it would result in a net gain to the roadless area and would improve parking at the Gibson Jack trailhead.

Modifications to Relocate and Expand the Gibson Jack Trailhead

West Mink Idaho Roadless Area #151. Approximately 11.4 acres are removed from the roadless area to allow for the construction of a new trailhead that will improve public access and safety for trail users, meet recreation demand, and improved the area's manageability for the Caribou-Targhee. In addition, 18.0 acres are added to the roadless area by incorporating a Forest Service trail into the roadless area. These changes result in a 6.6-acre increase in backcountry restoration-themed acres.

Dated: September 28, 2015
Thomas L. Tidwell
Chief, Forest Service.

[FR Doc. 2015-25136 Filed 10-1-15; 8:45 am]

BILLING CODE 3411-15-P